DEPARTMENT OF ENERGY

Federal Energy Regulatory Commission

[Docket No. CP24-514-000]

National Fuel Gas Supply Corporation; Notice of Schedule for the Preparation of an Environmental Assessment for the Tioga Pathway Project

On August, 21, 2024, National Fuel Gas Supply Corporation filed an application in Docket No. CP24-514-000 requesting a Certificate of Public Convenience and Necessity pursuant to section 7(c) and Authorization pursuant to section 7(b) of the Natural Gas Act to construct and operate and abandon certain natural gas pipeline facilities. The proposed project is known as the Tioga Pathway Project (Project), and would provide 190,000 dekatherms per day of firm transportation service from the Tioga County, Pennsylvania natural gas production area to downstream delivery points with other interstate pipelines, which reach various end-use markets and demand centers in the United States and Canada, and modernize a portion of National Fuel's existing Line Z20 pipeline system.

On August 30, 2024, the Federal Energy Regulatory Commission (Commission or FERC) issued its Notice of Application for the Project. Among other things, that notice alerted agencies issuing Federal authorizations of the requirement to complete all necessary reviews and to reach a final decision on a request for a Federal authorization within 90 days of the date of issuance of the Commission staff's environmental document for the Project.

This notice identifies Commission staff's intention to prepare an environmental assessment (EA) for the Project and the planned schedule for the completion of the environmental review.¹ The EA will be issued for a 30-day comment period.

¹ In accordance with the Council on Environmental Quality's regulations, the unique identification number for documents relating to this environmental review is EAXX-019-20-000-1728990440. 40 CFR 1501.5(c)(4) (2024).

Schedule for Environmental Review

Issuance of EA—February 13, 2025

90-day Federal Authorization Decision Deadline ²—May 14, 2025

² The Commission's deadline applies to the decisions of other Federal agencies, and state agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the Project's progress.

Project Description

The Tioga Pathway would consist of the following facilities:

• Line Z20: Replace approximately 3.8 miles of 12-inch-diameter 1936-vintage bare steel pipeline with new 20-inch-diameter coated steel pipeline and perform modifications to an existing valve setting on Line Z20 in National Fuel's existing right-of-way in Potter County, Pennsylvania;

• Line YM59: Install approximately 19.5 miles of new 20-inch-diameter coated steel pipeline beginning at the east end of the 3.8-mile Z20 Pipeline replacement, traversing Potter and Tioga Counties, Pennsylvania, and ending at the NFG Midstream Covington, LLC (Midstream) Lee Hill Interconnect;

• McCutcheon Hill OPP Station: Construct a new over-pressure protection (OPP) station at the interconnection between the eastern terminus of the Z20 Pipeline replacement and the western terminus of the YM59 Pipeline in Potter County;

• Measurement equipment at Midstream's Lee Hill Interconnect: 3 4 The Lee Hill Interconnect is a proposed producer interconnect with Midstream at the terminus of the proposed YM59 Pipeline in Tioga County;

³ This interconnect would be designed, installed, owned, operated, and maintained by Midstream, except for the interconnect's gas measurement, gas quality, over pressure protection devices and a pig launcher, which would be owned, operated, and maintained by National Fuel.

⁴ A “pig” is a tool that the pipeline company inserts into and pushes through the pipeline, conducting internal inspections, or other purposes.

• Perform minor modifications at National Fuel's existing Ellisburg Compressor Station,⁵ in Potter County, including replacing/installing measurement, OPP devices, flow control, and other associated appurtenances; and

⁵ National Fuel does not propose any changes to compressor units or to the certificated capacity at the Ellisburg Compressor Station.

• Construct one new remote-control valve setting and install a new cathodic protection ground bed along the Line YM59 Pipeline in Tioga County.

Background

On October 4, 2024, the Commission issued a Notice of Scoping Period Requesting Comments on Environmental Issues for the Proposed Tioga Pathway Project and Notice of Public Scoping Session (Notice of Scoping). The Notice of Scoping was sent to affected landowners; Federal, State, and local government agencies; elected officials; environmental and public interest groups; Native American Tribes; other interested parties; and local libraries and newspapers. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP24-514-000), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 18, 2024.
Debbie-Anne A. Reese,
Secretary.

[FR Doc. 2024-24809 Filed 10-24-24; 8:45 am]

BILLING CODE 6717-01-P